AGENCY FOR INTERNATIONAL DEVELOPMENT

Agency Information Collection Activities; Submission to the Office of Management and Budget (OMB) for Review and Approval; Annual Diversity, Equity, Inclusion, and Accessibility Survey for USAID's Workforce

AGENCY: United States Agency for International Development (USAID).

ACTION: Notice of emergency OMB approval.

SUMMARY: In accordance with the emergency review procedures of the Paperwork Reduction Act of 1995 (PRA), the United States Agency for International Development (USAID), is announcing that it is requesting emergency approval from the Office of Management and Budget (OMB) for a new information collection to survey its collective workforce to share their thoughts to help inform decision making and actions around diversity, equity, inclusion and accessibility to help strengthen, empower, and support our global workforce.

DATES: USAID plans to initially seek information in July 2022, then annually thereafter.

FOR FURTHER INFORMATION CONTACT: Requests for additional information should be directed to Kiona Owens @kiowens@usaid.gov or on (202) 712-7017.

SUPPLEMENTARY INFORMATION: Pursuant to 5 CFR 1320.13, the Agency submitted a request for emergency approval of new information collection from the agency's workforce on DEIA, including U.S. Direct Hires (permanent and temporary) U.S. Personal Services Contractors, Institutional Support Contractors, Cooperating Country Nationals, and other expanded demographic categories in 6 main areas on a 5-point Likert scale, including 11 profile questions, 7 equity questions, 14 accessibility questions, and 29 talent impact questions.

Description of Proposed Use of Information

The information will be collected via a digital survey and used by the workforce to capture the viewpoints and perceptions of USAID headquarters and overseas employees across all hiring mechanisms and at all grades and ranks; allow for data disaggregation by Bureau, Independent Office, and Mission; provide data for analysis to support evidence-based and data-driven approaches to determine whether and to what extent Agency policies programs, and practices present barriers to equal and equitable and opportunities and employment outcomes and what needs to be changed or developed to remove said barriers; and to support USAID efforts to monitor and report on DEIA and EEO program effectiveness, enabling continuous program improvement.

Time Burden

OMB's approval enables USAID to engage 11,000 respondents. Each respondent will be able to provide 20 minutes in participation time, totaling 3,666 estimated time burden of this proposed information collection.

Kiona Owens,
Global Diversity, Equity, Inclusion, and Accessibility (DEIA) Advisor, Office of the Administrator, Office of the Chief DEIA Officer.

[FR Doc. 2022-14876 Filed 7-12-22; 8:45 am]

BILLING CODE P